DEPARTMENT OF LABOR

Employment and Training Administration

[TA-W-57,650]

Meromex USA, Inc.; El Paso, TX; Dismissal of Application for Reconsideration

Pursuant to 29 CFR 90.18(C) an application for administrative reconsideration was filed with the Director of the Division of Trade Adjustment Assistance for workers at Meromex USA, Inc., El Paso, Texas. The application contained no new substantial information which would bear importantly on the Department's determination. Therefore, dismissal of the application was issued.

TA-W-57,650; Meromex USA, Inc., El Paso, Texas (October 25, 2005).

Signed at Washington, DC, this 26th day of October 2005.
Douglas F. Small,
Acting Director, Division of Trade Adjustment Assistance.

[FR Doc. E5-6124 Filed 11-3-05; 8:45 am]

BILLING CODE 4510-30-P